DEPARTMENT OF COMMERCE

International Trade Administration

[A-570-979]

Crystalline Silicon Photovoltaic Cells, Whether or Not Assembled Into Modules, From the People's Republic of China: Preliminary Results of Antidumping Duty Administrative Review, Partial Rescission of Antidumping Administrative Review, and Preliminary Determination of No Shipments; 2019-2020

AGENCY: Enforcement and Compliance, International Trade Administration, Department of Commerce.

SUMMARY: The Department of Commerce (Commerce) preliminarily determines that, with the exception of the three companies with no shipments, the companies under review sold subject merchandise at less than normal value during the period of review (POR), December 1, 2019, through November 30, 2020. Additionally, Commerce is rescinding this review with respect to three companies. Interested parties are invited to comment on these preliminary results of review.

DATES: Applicable December 23, 2021.

FOR FURTHER INFORMATION CONTACT: Jeff Pedersen, AD/CVD Operations, Office IV, Enforcement and Compliance, International Trade Administration, Department of Commerce, 1401 Constitution Avenue NW, Washington, DC 20230; telephone: (202) 482-2769.

SUPPLEMENTARY INFORMATION:

Background

On February 4, 2021, in response to review requests from multiple parties, Commerce initiated an administrative review of the antidumping duty order on crystalline silicon photovoltaic cells, whether or not assembled into modules (solar cells), from the People's Republic of China (China).¹ The POR is December 1, 2019, through November 30, 2020. On August 25, 2021, and October 8, 2021, Commerce extended the time limit for completing the preliminary results of this review.² The extended deadline for issuing the preliminary results of this review is December 16, 2021.

¹ See Initiation of Antidumping and Countervailing Duty Administrative Reviews, 86 FR 8166 (February 4, 2021) (Initiation Notice). Commerce subsequently corrected the end date of the POR listed in the Initiation Notice (see Initiation of Antidumping and Countervailing Duty Administrative Reviews, 86 FR 12599 (March 4, 2021)).

² See Memorandum, “Crystalline Silicon Photovoltaic Cells, Whether or Not Assembled Into Modules, from the People's Republic of China: Extension of Deadline for Preliminary Results of Antidumping Duty Administrative Review; 2019-2020,” dated August 25, 2021; see also Memorandum, Crystalline Silicon Photovoltaic Cells, Whether or Not Assembled Into Modules, from the People's Republic of China: Second Extension of Deadline for Preliminary Results of Antidumping Duty Administrative Review; 2019-2020,” dated October 8, 2021.

On February 25, 2021, Commerce selected two exporters to examine individually as mandatory respondents,³ Jinko Solar Import and Export Co., Ltd. (Jinko) ⁴ and Risen Energy Co., Ltd. (Risen).⁵ During the course of this review, the mandatory respondents filed responses to Commerce's questionnaire and supplemental questionnaires, the petitioner (the American Alliance for Solar Manufacturing) commented on those responses, and multiple other companies for which Commerce initiated the review filed either no-shipment claims or applications or certifications for separate rates status. For details regarding the events that occurred subsequent to the initiation of the review, see the Preliminary Decision Memorandum.⁶

³ See Memorandum, “2019-2020 Antidumping Duty Administrative Review of Crystalline Silicon Photovoltaic Cells, Whether or Not Assembled into Modules from the People's Republic of China: Respondent Selection,” dated February 25, 2021.

⁴ “Jinko” refers to the following companies which Commerce is treating as a single entity: Jinko Solar Import and Export Co., Ltd.; Jinko Solar Co., Ltd; JinkoSolar Technology (Haining) Co., Ltd.; Yuhuan Jinko Solar Co., Ltd.; Zhejiang Jinko Solar Co., Ltd.; Jiangsu Jinko Tiansheng Solar Co., Ltd.; JinkoSolar (Chuzhou) Co., Ltd.; JinkoSolar (Yiwu) Co., Ltd.; and JinkoSolar (Shangrao) Co., Ltd. (collectively, Jinko).

⁵ “Risen” refers to the following companies which Commerce is treating as a single entity: Risen Energy Co. Ltd., Risen (Wuhai) New Energy Co., Ltd., Zhejiang Twinsel Electronic Technology Co., Ltd., Risen (Luoyang) New Energy Co., Ltd., Jiujiang Shengzhao Xinye Technology Co., Ltd., Jiujiang Shengzhao Xinye Trade Co., Ltd., Ruichang Branch, Risen Energy (HongKong) Co., Ltd., Risen Energy (Changzhou) Co., Ltd. (Changzhou) and Risen Energy (Yiwu) Co., Ltd. (collectively, Risen).

⁶ See Memorandum, “Decision Memorandum for the Preliminary Results of the 2019-2020 Antidumping Duty Administrative Review of Crystalline Silicon Photovoltaic Cells, Whether or not Assembled into Modules, from the People's Republic of China,” issued concurrently with and hereby adopted by this notice (Preliminary Decision Memorandum).

Scope of the Order

The merchandise covered by the order is crystalline silicon photovoltaic cells, and modules, laminates, and panels, consisting of crystalline silicon photovoltaic cells, whether or not partially or fully assembled into other products, including, but not limited to, modules, laminates, panels and building integrated materials.⁷ Merchandise covered by this order is classifiable under subheadings 8501.61.0010, 8507.20.80, 8541.40.6015, 8541.40.6025, and 8501.31.8010 of the Harmonized Tariff Schedule of the United States (HTSUS). Although the HTSUS subheadings are provided for convenience and customs purposes, our written description of the scope of the order is dispositive.

⁷ For a complete description of the scope of the order, see Preliminary Decision Memorandum.

Preliminary Determination of No Shipments

We found no evidence calling into question the no-shipment claims of the following companies/company groupings: (1) JingAo Solar Co., Ltd.; (2) Yingli; ⁸ and (3) Canadian Solar.⁹ Therefore, we have preliminarily determined that JingAo Solar Co., Ltd., Yingli, and Canadian Solar did not ship subject merchandise to the United States during the POR. For additional information regarding this preliminary determination, see the Preliminary Decision Memorandum.

⁸ The Yingli entity is made up of Shenzhen Yingli New Energy Resources Co., Ltd.; Baoding Jiasheng Photovoltaic Technology Co., Ltd.; Baoding Tianwei Yingli New Energy Resources Co., Ltd.; Beijing Tianneng Yingli New Energy Resources Co., Ltd.; Hainan Yingli New Energy Resources Co., Ltd.; Hengshui Yingli New Energy Resources Co., Ltd.; Lixian Yingli New Energy Resources Co., Ltd.; Tianjin Yingli New Energy Resources Co., Ltd.; Yingli Energy (China) Company Limited.

⁹ The Canadian Solar entity is made up of Canadian Solar International Limited; Canadian Solar Manufacturing (Changshu) Inc.; Canadian Solar Manufacturing (Luoyang) Inc.; CSI Cells Co., Ltd.; CSI Solar Power (China) Inc.; CSI-GCL Solar Manufacturing (Yancheng) Co., Ltd.

Partial Rescission of Administrative Review

Pursuant to 19 CFR 351.213(d)(1), Commerce will rescind an administrative review, in whole or in part, if all parties that requested a review withdraw their requests within 90 days of the date of publication of the notice of initiation of the requested review. All parties withdrew their requests for an administrative review of Jiawei Solarchina Co., Ltd.; Shanghai BYD Co., Ltd.; and Zhejiang Sunflower Light Energy Science & Technology Limited Liability Company within 90 days of the date of publication of the Initiation Notice. Accordingly, Commerce is rescinding this review with respect to these companies, in accordance with 19 CFR 351.213(d)(1).

Preliminary Affiliation and Single Entity Determination

Consistent with Commerce's treatment of Jinko in the prior administrative review, we have continued to find that the following companies are affiliated pursuant to section 771(33)(F) of the Tariff Act of 1930, as amended (the Act), and that they should be treated as a single entity pursuant to 19 CFR 351.401(f)(1)-(2): Jinko Solar Import and Export Co., Ltd.; Jinko Solar Co., Ltd.; JinkoSolar Technology (Haining) Co., Ltd.; Yuhuan Jinko Solar Co., Ltd.; Zhejiang Jinko Solar Co., Ltd.; Jiangsu Jinko Tiansheng Solar Co., Ltd.; JinkoSolar (Chuzhou) Co., Ltd.; JinkoSolar (Yiwu) Co., Ltd.; and JinkoSolar (Shangrao) Co., Ltd. (collectively, Jinko). For additional information, see the Preliminary Decision Memorandum.

Also, consistent with Commerce's treatment of Risen in the prior administrative review, we have continued to treat the following companies as a single entity pursuant to section 771(33)(F) of the Act and 19 CFR 351.401(f)(1)-(2): Risen Energy Co. Ltd., Risen (Wuhai) New Energy Co., Ltd., Zhejiang Twinsel Electronic Technology Co., Ltd., Risen (Luoyang) New Energy Co., Ltd., Jiujiang Shengzhao Xinye Technology Co., Ltd., Jiujiang Shengzhao Xinye Trade Co., Ltd.,¹⁰ Ruichang Branch, Risen Energy (HongKong) Co., Ltd., Risen Energy (Changzhou) Co., Ltd. (Changzhou) and Risen Energy (Yiwu) Co., Ltd. For additional information, see the Preliminary Decision Memorandum.

¹⁰ Risen has alternatively used either “Shengzhao” or “Shengchao,” and “Trade” or “Technology” in the names of the companies Jiujiang Shengzhao and Ruichang Branch, despite one company being a branch of the other company. However, Risen sold these companies on December 23, 2019, and despite being capable of producing and selling solar cells and panels, neither company produced solar cells or solar panels, or sold subject merchandise to the United States, during the POR. Therefore, the only action that we have taken regarding the various versions of the company names was to include the alternative versions of the company names in the CBP module. See Risen's Letter, “Section A & Appendix X Questionnaire Responses,” dated April 2, 2021 at 3-4.

Separate Rates

We have preliminarily determined that the information placed on the record by Jinko and Risen, as well as by the other companies listed in the rate table in the “Preliminary Results of Review” section below, demonstrates that these companies are entitled to separate rate status.

We have preliminarily determined that the companies listed in Appendix II have not demonstrated their eligibility for a separate rate because they did not file a separate rate application or a separate rate certification with Commerce. We are treating the companies listed in Appendix II as part of the China-wide entity. Because no party requested a review of the China-wide entity, the entity is not under review and the entity's rate (i.e., 238.95 percent) is not subject to change.¹¹ For additional information regarding Commerce's preliminary separate rate determinations, see the Preliminary Decision Memorandum.

¹¹ The China-wide entity rate was last changed in the first administrative review of this proceeding and has been the applicable rate for the entity in each subsequent review, including the most recently completed review. See Crystalline Silicon Photovoltaic Cells, Whether or Not Assembled Into Modules, from the People's Republic of China: Final Results of Antidumping Duty Administrative Review and Final Determination of No Shipments; 2012-2013, 80 FR 40998, 41002 (July 14, 2015) (AR1 Final); see also Crystalline Silicon Photovoltaic Cells, Whether or Not Assembled Into Modules, from the People's Republic of China: Final Results of Antidumping Duty Administrative Review and Final Determination of No Shipments; 2018-2019, 86 FR 58871 (October 25, 2021) (AR7 Final Results).

Dumping Margins for Separate Rate Companies

The statute and Commerce's regulations do not address what dumping margin to apply to respondents not selected for individual examination when Commerce limits its examination in an administrative review pursuant to section 777A(c)(2) of the Act. Generally, Commerce looks to section 735(c)(5) of the Act, which provides instructions for calculating the all-others rate in an investigation, for guidance when calculating the dumping margin for non-selected respondents that are not individually examined in an administrative review. Section 735(c)(5)(A) of the Act states that the all-others rate should be calculated by averaging the weighted-average dumping margins calculated for individually-examined respondents, excluding dumping margins that are zero, de minimis, or based entirely on facts available. Because we calculated preliminary dumping margins for the mandatory respondents Jinko and Risen which are not zero, de minimis, or based entirely on facts available, consistent with Commerce's practice and section 735(c)(5)(A) of the Act, we assigned the separate rate recipients a dumping margin equal to the weight average of Jinko and Risen's preliminary dumping margins. We weight averaged Jinko and Risen's preliminary dumping margins using the public values of their reported sales of subject merchandise to the United States during the POR.

Methodology

Commerce is conducting this administrative review in accordance with section 751(a)(1)(B) of the Act. In determining the dumping margins in this review, we calculated export and constructed export prices in accordance with section 772 of the Act. Because Commerce has determined that China is a non-market economy country,¹² within the meaning of section 771(18) of the Act, we calculated normal value in this review in accordance with section 773(c) of the Act.

¹² See Antidumping Duty Investigation of Certain Aluminum Foil from the People's Republic of China: Affirmative Preliminary Determination of Sales at Less-Than-Fair Value and Postponement of Final Determination, 82 FR 50858, 50861 (November 2, 2017) (citing Memorandum, “China's Status as a Non-Market Economy,” dated October 26, 2017), unchanged in Certain Aluminum Foil from the People's Republic of China: Final Determination of Sales at Less Than Fair Value, 83 FR 9282 (March 5, 2018).

For a full description of the methodology underlying the preliminary results of this review, see the Preliminary Decision Memorandum. The Preliminary Decision Memorandum is a public document and is made available to the public via Enforcement and Compliance's Antidumping and Countervailing Duty Centralized Electronic Service System (ACCESS). ACCESS is available to registered users at https://access.trade.gov. In addition, a complete version of the Preliminary Decision Memorandum can be found at https://access.trade.gov/public/FRNoticesListLayout.aspx.

Preliminary Results of Review

We are assigning the following dumping margins to the firms listed below for the period December 1, 2019, through November 30, 2020:

Exporter | Weighted- average dumping margin (percent)
Jinko Solar Import and Export Co., Ltd./Jinko Solar Co., Ltd./JinkoSolar Technology (Haining) Co., Ltd./Yuhuan Jinko Solar Co., Ltd./Zhejiang Jinko Solar Co., Ltd./Jiangsu Jinko Tiansheng Solar Co., Ltd./JinkoSolar (Chuzhou) Co., Ltd./JinkoSolar (Yiwu) Co., Ltd./and JinkoSolar (Shangrao) Co., Ltd | 32.69
Risen Energy Co. Ltd., Risen (Wuhai) New Energy Co., Ltd., Zhejiang Twinsel Electronic Technology Co., Ltd., Risen (Luoyang) New Energy Co., Ltd., Jiujiang Shengzhao Xinye Technology Co., Ltd., Jiujiang Shengzhao Xinye Trade Co., Ltd., Ruichang Branch,¹³ Risen Energy (HongKong) Co., Ltd., Risen Energy (Changzhou) Co., Ltd. (Changzhou) and Risen Energy (YIWU) Co., Ltd | 19.26
Review-Specific Average Rate Applicable to the Following Companies:
Anji DaSol Solar Energy Science & Technology Co., Ltd | 23.17
Chint Solar (Zhejiang) Co., Ltd., Chint New Energy Technology (Haining) Co., Ltd.,¹⁴ Chint Solar (Jiuquan) Co., Ltd., Chint Solar (Hong Kong) Company Limited | 23.17
JA Solar Technology Yangzhou Co., Ltd | 23.17
LONGi Solar Technology Co., Ltd.¹⁵ | 23.17
Shanghai JA Solar Technology Co., Ltd | 23.17
Shenzhen Topray Solar Co., Ltd | 23.17
Wuxi Suntech Power Co., Ltd | 23.17
Wuxi Tianran Photovoltaic Co., Ltd | 23.17
Xiamen Yiyusheng Solar Co., Ltd | 23.17
Zhejiang Aiko Solar Energy Technology Co., Ltd | 23.17

Disclosure and Public Comment

¹³ Risen has alternatively used either “Shengzhao” or “Shengchao”, and “Trade” or “Technology” in the names of the companies Jiujiang Shengzhao and Ruichang Branch, despite one company being a branch of the other company. However, Risen sold these companies on December 23, 2019, and despite being capable of producing and selling solar cells and panels, neither company produced solar cells or solar panels, or sold subject merchandise to the United States, during the POR. Therefore, the only action that we have taken regarding the various versions of the company names was to include the alternative versions of the company names in the CBP module.

¹⁴ In the Initiation Notice, we stated that we were initiating a review of Chint Energy (Haining) Co., Ltd. However, Commerce previously determined that Chint Energy (Haining) Co., Ltd.'s correct name is Chint New Energy Technology (Haining) Co., Ltd. See AR7 Final Results IDM at Comment 5. We have corrected the name of this company in the CBP module and will refer to this company as Chint New Energy Technology (Haining) Co., Ltd. henceforth.

¹⁵ In the Initiation Notice, we stated that we were initiating a review of LONGi Solar Technology Co. Ltd.; Lerri Solar Technology Co., Ltd. However, Commerce previously determined that LONGi Solar Technology Co. Ltd. was the successor-in-interest to Lerri Solar Technology Co., Ltd., effective March 23, 2017. See Crystalline Silicon Photovoltaic Cells, Whether or Not Assembled Into Modules, from the People's Republic of China: Final Results of Antidumping Duty Administrative Review and Final Determination of No Shipments; 2015-2016, 83 FR 35616 (July 27, 2018). Therefore, we will refer to this company as LONGi Solar Technology Co. Ltd. henceforth.

Commerce intends to disclose to parties to the proceeding the calculations performed for these preliminary results of review within five days of the date of publication of this notice in the Federal Register in accordance with 19 CFR 351.224(b). Interested parties may submit case briefs no later than 30 days after the date of publication of these preliminary results of review in the Federal Register.¹⁶ Rebuttal briefs may be filed no later than seven days after case briefs are due and may respond only to arguments raised in the case briefs.¹⁷ A table of contents, list of authorities used, and an executive summary of issues should accompany any briefs submitted to Commerce. The summary should be limited to five pages total, including footnotes.¹⁸

¹⁶ See 19 CFR 351.309(c)(ii).

¹⁷ See 19 CFR 351.309(d).

¹⁸ See 19 CFR 351.309(c)(2), (d)(2).

Interested parties who wish to request a hearing must submit a written request for a hearing to the Assistant Secretary for Enforcement and Compliance, U.S. Department of Commerce, within 30 days after the date of publication of this notice in the Federal Register.¹⁹ Requests should contain the party's name, address, and telephone number, the number of individuals from the requesting party's firm(s) that will attend the hearing, and a list of the issues the party intends to discuss at the hearing. Oral arguments at the hearing will be limited to issues raised in the briefs. If a request for a hearing is made, Commerce intends to hold the hearing at a date and time to be determined.²⁰ Parties should confirm by telephone the date and time of the hearing two days before the scheduled date of the hearing.

¹⁹ See 19 CFR 351.310(c).

²⁰ See 19 CFR 351.310(d).

All submissions must be filed electronically using ACCESS.²¹ An electronically filed document must be received successfully in its entirety by Commerce's electronic records system, ACCESS, by 5 p.m. Eastern Time (ET) on the due date.²² Note that Commerce has temporarily modified certain of its requirements for serving documents containing business proprietary information until further notice.²³ Unless otherwise extended, Commerce intends to issue the final results of this administrative review, which will include the results of its analysis of issues raised in any briefs, within 120 days of publication of these preliminary results of review in the Federal Register, pursuant to section 751(a)(3)(A) of the Act.

²¹ See generally 19 CFR 351.303.

²² See 19 CFR 351.303 (for general filing requirements); Antidumping and Countervailing Duty Proceedings: Electronic Filing Procedures; Administrative Protective Order Procedures, 76 FR 39263 (July 6, 2011).

²³ See Temporary Rule Modifying AD/CVD Service Requirements Due to COVID-19; Extension of Effective Period, 85 FR 29615 (May 18, 2020); and Temporary Rule Modifying AD/CVD Service Requirements Due to COVID-19; Extension of Effective Period, 85 FR 41363 (July 10, 2020).

Assessment Rates

Upon issuance of the final results of this review, Commerce will determine, and U.S. Customs and Border Protection (CBP) shall assess, antidumping duties on all appropriate entries covered by this review.²⁴ Commerce intends to issue assessment instructions to CBP no earlier than 35 days after date of publication of the final results of this review in the Federal Register. If a timely summons is filed at the U.S. Court of International Trade, the assessment instructions will direct CBP not to liquidate relevant entries until the time for parties to file a request for a statutory injunction has expired (i.e., within 90 days of publication).

²⁴ See 19 CFR 351.212(b)(1).

For each individually examined respondent in this review whose weighted-average dumping margin in the final results of review is not zero or de minimis (i.e., less than 0.5 percent), Commerce intends to calculate importer/customer-specific assessment rates.²⁵ Where the respondent reported reliable entered values, Commerce intends to calculate importer/customer-specific ad valorem assessment rates by aggregating the amount of dumping calculated for all U.S. sales to the importer/customer and dividing this amount by the total entered value of the merchandise sold to the importer/customer.²⁶ Where the respondent did not report entered values, Commerce will calculate importer/customer-specific assessment rates by dividing the amount of dumping for reviewed sales to the importer/customer by the total quantity of those sales. Commerce will calculate an estimated ad valorem importer/customer-specific assessment rate to determine whether the per-unit assessment rate is de minimis; however, Commerce will use the per-unit assessment rate where entered values were not reported.²⁷ Where an importer/customer-specific ad valorem assessment rate is not zero or de minimis, Commerce will instruct CBP to collect the appropriate duties at the time of liquidation. Where either the respondent's weighted average dumping margin is zero or de minimis, or an importer/customer-specific ad valorem assessment rate is zero or de minimis, Commerce will instruct CBP to liquidate appropriate entries without regard to antidumping duties.²⁸

²⁵ See Antidumping Proceedings: Calculation of the Weighted Average Dumping Margin and Assessment Rate in Certain Antidumping Proceedings: Final Modification, 77 FR 8101 (February 14, 2012) (Final Modification).

²⁶ See 19 CFR 351.212(b)(1).

²⁷ Id.

²⁸ See Final Modification, 77 FR at 8103.

For the respondents that were not selected for individual examination in this administrative review, but which qualified for a separate rate, the assessment rate will be based on the weighted-average dumping margin(s) assigned to the respondent(s) selected for individual examination, as appropriate, in the final results of this review.²⁹

²⁹ See Drawn Stainless Steel Sinks from the People's Republic of China: Preliminary Results of the Antidumping Duty Administrative Review and Preliminary Determination of No Shipments: 2014-2015, 81 FR 29528 (May 12, 2016), and accompanying IDM at 10-11, unchanged in Drawn Stainless Steel Sinks from the People's Republic of China: Final Results of Antidumping Duty Administrative Review; Final Determination of No Shipments; 2014-2015, 81 FR 54042 (August 15, 2016).

Pursuant to Commerce's refinement to its practice, for sales that were not reported in the U.S. sales database submitted by an exporter individually examined during this review, Commerce will instruct CBP to liquidate the entry of such merchandise at the dumping margin assigned to the China-wide entity.³⁰ Additionally, where Commerce determines that an exporter under review had no shipments of subject merchandise to the United States during the POR, any suspended entries of subject merchandise that entered under that exporter's CBP case number during the POR will be liquidated at the dumping margin assigned to the China-wide entity.

³⁰ See Non-Market Economy Antidumping Proceedings: Assessment of Antidumping Duties, 76 FR 65694 (October 24, 2011), for a full discussion of this practice.

In accordance with section 751(a)(2)(C) of the Act, the final results of this review shall be the basis for the assessment of antidumping duties on entries of merchandise covered by the final results of this review and for future deposits of estimated antidumping duties, where applicable.

Cash Deposit Requirements

Commerce will instruct CBP to require a cash deposit for antidumping duties equal to the weighted-average amount by which normal value exceeds U.S. price. The following cash deposit requirements apply to all subject merchandise from China entered, or withdrawn from warehouse, for consumption on or after the date of publication of the notice of the final results of this review in the Federal Register, as provided by section 751(a)(2)(C) of the Act: (1) For the exporters listed in the table above, the cash deposit rate will be equal to the weighted-average dumping margin established in the final results of this review for the exporter (except, if the dumping margin is de minimis (i.e., less than 0.5 percent), then the cash deposit rate will be zero for that exporter); (2) for previously investigated or reviewed Chinese and non-Chinese exporters that are not listed in the table above but that have separate rates, the cash deposit rate will continue to be the exporter-specific rate established in the most recently completed segment of this proceeding; (3) for all Chinese exporters of subject merchandise which have not been found to be entitled to a separate rate, the cash deposit rate will be the rate for the China-wide entity (i.e., 238.95 percent) ³¹ and (4) for all non-Chinese exporters of subject merchandise that have not received their own rate, the cash deposit rate will be the rate applicable to the China exporter that supplied that non-Chinese exporter. These cash deposit requirements, when imposed, shall remain in effect until further notice.

³¹ See AR1 Final, 80 FR at 41002.

Notification to Importers

This notice serves as a preliminary reminder to importers of their responsibility under 19 CFR 351.402(f)(2) to file a certificate regarding the reimbursement of antidumping duties and/or countervailing duties prior to liquidation of the relevant entries during this POR. Failure to comply with this requirement could result in Commerce's presumption that reimbursement of antidumping duties and/or countervailing duties has occurred, and the subsequent assessment of double antidumping duties and/or an increase in the amount of antidumping duties by the amount of the countervailing duties.

Notification to Interested Parties

We are issuing and publishing these preliminary results of review in accordance with sections 751(a)(1) and 777(i)(1) of the Act and 19 CFR 351.213 and 351.221(b)(4).

Dated: December 16, 2021.
Ryan Majerus,
Deputy Assistant Secretary for Policy and Negotiations, Performing the Non-Exclusive Functions and Duties of the Assistant Secretary for Enforcement and Compliance.

Appendix I

List of Sections in the Preliminary Decision Memorandum

I. Summary

II. Background

III. Scope of the Order

IV. Partial Rescission of Administrative Review

V. Preliminary Determination of No Shipments

VI. Single Entity Treatment

VII. Discussion of the Methodology

VIII. Recommendation

Appendix II

Companies Preliminarily Determined To Be Part of the China-Wide Entity

1. BYD (Shangluo) Industrial Co., Ltd.

2. De-Tech Trading Limited HK

3. Hengdian Group DMEGC Magnetics Co., Ltd.

4. JA Solar Co., Ltd.

5. Jiawei Solarchina (Shenzhen) Co., Ltd.

6. JinkoSolar International Ltd.

7. Lightway Green New Energy Co., Ltd.

8. Ningbo ETDZ Holdings, Ltd.

9. Ningbo Qixin Solar Electrical Appliance Co., Ltd.

10. Renesola Jiangsu Ltd.

11. Sumec Hardware & Tools Co., Ltd.

12. Shenzhen Sungold Solar Co., Ltd.

13. Suntech Power Co., Ltd.

14. Taizhou BD Trade Co., Ltd.

15. tenKsolar (Shanghai) Co., Ltd.

16. Trina Solar Co., Ltd.; Trina Solar (Changzhou) Science and Technology Co., Ltd.; Yancheng Trina Guoneng Photovoltaic Technology Co., Ltd.; Changzhou Trina Solar Yabang Energy Co., Ltd.; Turpan Trina Solar Energy Co., Ltd.; Hubei Trina Solar Energy Co., Ltd.; Trina Solar (Hefei) Science and Technology Co., Ltd.; Changzhou Trina Hezhong Photoelectric Co., Ltd.

17. Yingli Green Energy International Trading Company Limited

[FR Doc. 2021-27847 Filed 12-22-21; 8:45 am]

BILLING CODE 3510-DS-P